DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Associated Form, and OMB Number: Exceptional Family Member Program; DD Form 2792; OMB Number 0704—

Type of Request: New Collection.

Number of Respondents: 16,470.

Responses Per Respondent: 1.

Annual Responses: 16,470.

Average Burden Per Response: 27 minutes.

Annual Burden Hours: 7,400.

Needs and Uses: This information collection requirement is necessary to identify medical and educational requirements of family members of military Service members and DoD civilian employees when family travel to an overseas assignment is being considered. Respondents are private physicians and school personnel. The DD form 2792, “Exceptional Family Member Program and Educational Summary,” will be completed for family members who have been identified with a special medical or educational need to document the medical or educational need and service requirements. Their needs will be matched to the resources available at the overseas location to determine the feasibility of receiving appropriate services in that location. The information is used by the military Service's personnel offices for purposes of assignment. The DD Form 2792 will be completed for family members of civilian employees to document their special health or educational needs in order to advise the civilian employee of the availability of the needed services.

Affected Public: Business or Other For-Profit; State, Local, or Tribal Government.

Frequency: Triennal.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 13, 2000.
Patricia L. Toppings,
Alternate OSD Federal Register Liaison Officer, Department of Defense.

[FR Doc. 00-1304 Filed 1-19-00; 8:45 am]

BILLING CODE 5001-10-M